DEPARTMENT OF THE TREASURY

Office of the Comptroller of the Currency

Agency Information Collection Activities: Information Collection Renewal; Submission for OMB Review; General Reporting and Recordkeeping Requirements by Savings Associations

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995 (PRA).

An agency may not conduct or sponsor, and a respondent is not required to respond to, an information collection unless it displays a currently valid Office of Management and Budget (OMB) control number.

The OCC is soliciting comment concerning renewal of its information collection titled, “General Reporting and Recordkeeping Requirements by Savings Associations.” The OCC is also giving notice that it has sent the collection to OMB for review.

DATES: Comments must be submitted on or before June 16, 2014.

ADDRESSES: Because paper mail in the Washington, DC area and at the OCC is subject to delay, commenters are encouraged to submit comments by email if possible. Comments may be sent to: Legislative and Regulatory Activities Division, Office of the Comptroller of the Currency, Attention: 1557-0266, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

Additionally, please send a copy of your comments by mail to: OCC Desk Officer, 1557-0266, U.S. Office of Management and Budget, 725 17th Street NW., #10235, Washington, DC 20503, or by email to: oira submission@omb.eop.gov.

FOR FURTHER INFORMATION CONTACT: Johnny Vilela or Mary H. Gottlieb, OCC Clearance Officers, (202) 649-5490, for persons who are deaf or hard of hearing, TTY, (202) 649-5597, Legislative and Regulatory Activities Division, Office of the Comptroller of the Currency, 400 7th Street SW., Suite 3E-218, Mail Stop 9W-11, Washington, DC 20219.

SUPPLEMENTARY INFORMATION: Under the PRA (44 U.S.C. 3501-3520), Federal agencies must obtain approval from the OMB for each collection of information they conduct or sponsor. “Collection of information” is defined in 44 U.S.C. 3502(3) and 5 CFR 1320.3(c) to include agency requests or requirements that members of the public submit reports, keep records, or provide information to a third party.

The OCC is proposing to extend OMB approval of the following information collection:

Title: General Reporting and Recordkeeping Requirements by Savings Associations.

OMB Control No.: 1557-0266.

Type of Review: Regular review.

Abstract: This information collection relates to reports and records required by the following regulations:

• 12 CFR 152.11 (books and records, Federal stock associations);

• 12 CFR 145.96(c) (agency business records, Federal stock associations);

• 12 CFR 144.8 (communications between members of a Federal mutual savings association);

• 12 CFR 162.1 (regulatory reporting requirements, each Federal savings association and its affiliates);

• 12 CFR 163.1 (chartering documents, each Federal savings association);

• 12 CFR 163.47(e) (pension plans, each Federal savings association or service corporation);

• 12 CFR 172.6(b) (standard flood hazard determination form, each Federal savings association);

• 12 CFR 162.4 (audit of Federal savings association, savings and loan holding company, or affiliate); and

• 12 CFR 163.76(c) (offers and sales of securities of a Federal savings association or its affiliates in any office of the savings association).

Federal savings associations use these required reports and records for internal management control purposes and examiners use them to determine whether Federal savings associations are being operated safely, soundly, and in compliance with regulations. The absence of these reporting and record keeping requirements would make it difficult for institutions to establish prudent internal controls and limit the ability of examiners to determine the accurate performance and condition of Federal savings associations.

Affected Public: Businesses or other for-profit.

Burden Estimates:

Estimated Number of Respondents: 500.

Estimated Total Burden: 68,345 hours.

Frequency of Response: On occasion.

Comments: The OCC issued a Federal Register notice regarding the collection for 60 days of comment on February 14, 2014. 79 FR 9044. No comments were received. Comments continue to be invited on:

(a) Whether the collections of information are necessary for the proper performance of the OCC's functions, including whether the information has practical utility;

(b) The accuracy of the OCC's estimates of the burden of the information collections, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Dated: May 12, 2014.
Stuart E. Feldstein,
Director, Legislative and Regulatory Activities Division.

[FR Doc. 2014-11393 Filed 5-15-14; 8:45 am]

BILLING CODE 4810-33-P